DEPARTMENT OF STATE

[Public Notice No. 3553]

Bureau of Oceans, International Environmental and Scientific Affairs; Public Meeting To Discuss Recently Completed Negotiations on an International Agreement Through the United Nations Environment Program (UNEP) on Persistent Organic Pollutants (POPs)

SUMMARY: The United States Government, through an interagency working group chaired by the U.S. Department of State, participated in the successful fifth negotiating session on a global agreement to address the release of certain POPs. The Department of State will host a public meeting for interested parties, including environmental non-governmental organizations and industry representatives on Tuesday, January 30, 2001, from 10:00 a.m. to 11:00 a.m. in Room 1408 of the U.S. Department of State, 2201 C Street NW, Washington, DC. To arrange for their entrance into the building, attendees should provide to Eunice Mourning of the Office of Environmental Policy, U.S. Department of State (tel. 202-647-9266, fax 202-647-5947) their name, organization, date of birth and Social Security number by noon on Monday, January 29, 2000. Attendees should enter the C Street entrance and bring picture identification with them. For further information, please contact Dr. Marie Ricciardone, U.S. Department of State, Office of Environmental Policy (OES/ENV), Room 4325, 2201 C Street NW, Washington DC 20520, phone 202-736-4660, fax 202-647-5947, e-mail RicciardoneMD@state.gov.

SUPPLEMENTARY INFORMATION:

The UNEP POPs Negotiations

The POPs treaty is the first global treaty to address in a comprehensive manner the risks to human health and the environment of POPs chemicals. The treaty will in the first instance deal with twelve substances: aldrin, endrin, hexachlorobenzene, toxaphene, chlordane, dieldrin, heptachlor, mirex, DDT, PCBs, dioxins and furans. These substances fall into three categories: pesticides, industrial chemicals, and unintended by-products of combustion and industrial processes.

The global agreement is an ambitious undertaking, since it encompasses a broad range of measures to address POPs of transboundary concern. These range from controls on production and use for commercial chemicals, restrictions on POPs wastes, and controls on by-products that come from combustion and industrial processes. For many countries, this will be the first time that manufacture and use of these substances have been restricted, and the effects are likely to be far-reaching.

Since the U.S. and other developed countries have already taken actions on these chemicals, a major goal for the agreement is broad participation by developing countries and, consequently, meaningful reductions in the amount of pollutants that are released into the environment. A critical part of the agreement is the technical and financial assistance mechanisms to help developing countries effectively implement their obligations.

Timetable and Point of Contact

The public meeting will be held on Tuesday, January 20, 2001 from 10 a.m. to 11 a.m. in Room 1408 of the U.S. Department of State. Some members of the interagency working group who participated in the negotiation will provide an overview of the fifth session. The U.S. Department of State is issuing this notice to help ensure that interested and potentially affected parties are aware of and knowledgeable about the conclusion of these negotiations, and have an opportunity to offer comments. Those organizations or individuals which cannot attend the meeting, but wish to either submit a written comment or to remain informed, should provide Eunice Mourning of the Office of Environmental Policy, U.S. Department of State (phone 202-647-9266; fax 202-647-5947) with their statement and/or their name, organization, address, telephone and fax numbers, and their e-mail address.

Dated: January 16, 2001.
Daniel T. Fantozzi,
Director, Office of Environmental Policy, U.S. Department of State.

[FR Doc. 01-1834 Filed 1-19-01; 8:45 am]

BILLING CODE 4710-06-P